FEDERAL COMMUNICATIONS COMMISSION

47 CFR Part 54

[WC Docket No. 10-90; DA 13-1113, FCC 13-73, FCC 13-97]

Connect America Fund

AGENCY: Federal Communications Commission.

ACTION: Final rule; announcement of effective date.

SUMMARY: In this document, the Federal Communications Commission (Commission) announces that the Office of Management and Budget (OMB) has approved, for a period of three years, an information collection associated with the Commission's Universal Service—Connect America Fund, Report and Orders and Order on Reconsideration (Orders). The Commission submitted revised information collection requirements for review and approval by OMB, as required by the Paperwork Reduction Act (PRA) of 1995 (44 U.S.C. 3501-3520), which were approved by the OMB. This notice is consistent with the Orders, which stated that the Commission would publish a document in the Federal Register announcing the effective date of new information collection requirements.

DATES: The rules associated with the Connect America Phase II state-level commitment elections published at 78 FR 32991, June 3, 2013; 47 CFR 54.312(b)(3), published at 78 FR 48622, August 9, 2013; and 47 CFR 54.313(b) published at 78 FR 38227, June 26, 2013, are effective June 18, 2014.

FOR FURTHER INFORMATION CONTACT: Ryan Yates, Wireline Competition Bureau at (202) 418-7400 or TTY (202) 418-0484.

SUPPLEMENTARY INFORMATION: This document announces that, on March 11, 2014, OMB approved, for a period of three years, the information collection requirements contained in the Commission's Orders, DA 13-1113, published at 78 FR 32991, June 3, 2013, FCC 13-73, published at 78 FR 38227, June 26, 2013, and FCC 13-97, published at 78 FR 48622, August 9, 2013. The OMB Control Number is 3060-1188. The Commission publishes this notice as an announcement of the effective date of the new rules associated with the Connect America Phase II state-level commitment elections, 47 CFR 54.312(b)(3), and 54.313(b). If you have any comments on the burden estimates listed below, or how the Commission can improve the collections and reduce any burdens caused thereby, please contact Leslie Smith, Federal Communications Commission, Room 1-C216, 445 12th Street SW., Washington, DC 20554. Please include the OMB Control Number, 3060-1188, in your correspondence. The Commission will also accept your comments via email. Please send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on March 11, 2014, for the new rules associated with the Connect America Phase II state-level commitment elections and the information collection requirements contained in the Commission's rules at 47 CFR 54.312(b)(3), and 54.313(b). Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1188.

The foregoing notice is required by the Paperwork Reduction Act of 1995, Public Law 104-13, October 1, 1995, and 44 U.S.C. 3507.

The total annual reporting burdens and costs for the respondents are as follows:

OMB Control Number: 3060-1188.

OMB Approval Date: March 11, 2014.

OMB Expiration Date: March 31, 2017.

Title: Connect America Challenge Process and Certifications, WC Docket No. 10-90.

Form No.: FCC Form 505.

Respondents: Business or other for-profit, not-for-profit institutions, and state, local or tribal government.

Number of Respondents and Responses: 178 respondents; 178 responses.

Estimated Time per Response: 3 hours to 20 hours.

Frequency of Response: On occasion reporting requirement and third party disclosure requirements.

Obligation to Respond: Required to obtain or retain benefits. Statutory authority for this information collection is contained in 47 U.S.C. sections.

Total Annual Burden: 1,793 hours.

Total Annual Cost: N/A.

Nature and Extent of Confidentiality: The Commission is not requesting that respondents submit confidential information to the Commission. However, respondents may request materials or information submitted to the Commission or to the Universal Service Administrative Company (USAC) be withheld from public inspection under 47 CFR 0.459 of the Commission's rules. We note that USAC must preserve the confidentiality of all data obtained from respondents; must not use the data except for purposes of administering the universal service programs; and must not disclose data in company-specific form unless directed to do so by the Commission.

Needs and Uses: In documents DA 13-1113 and FCC 13-73, the Commission proposed to collect information to determine what areas should be eligible for Phase II of Connect America Fund and to ensure that Connect America Fund Phase I deployment occur in areas that are eligible for support. In document FCC 13-97, the Commission made mandatory the reporting of changes in deployment location involving census blocks that were not previously been identified. The information collection requirements announced in this notice further the Commission's goals under section 254(b) of the Communications Act to ensure that consumers in all regions of the Nation have access to telecommunications and information services, while minimizing waste, fraud, and abuse. Certain of the requirements covered by this information collection had been previously approved by OMB for a period of six month, 78 FR 44893, July 25, 2013. OMB has approved a renewal of these information collections for three years, in addition to approving the new information collections discussed herein. This information will be used to determine the amount of, and eligibility for, high-cost universal service support received by incumbent and competitive eligible telecommunications carriers under the Connect America Fund. To aid in collecting this information regarding the Phase II challenge process in a uniform fashion, FCC Form 505 will be used, which parties should use in filing their Phase II challenges and responses with the FCC.

Federal Communications Commission.
Marlene H. Dortch,
Secretary.

[FR Doc. 2014-14292 Filed 6-17-14; 8:45 am]

BILLING CODE 6712-01-P